DEPARTMENT OF COMMERCE

Foreign-Trade Zones Board

[B-83-2015]

Foreign-Trade Zone (FTZ) 183—Austin, Texas; Notification of Proposed Production Activity; Samsung Austin Semiconductor, LLC; Subzone 183B (Semiconductors); Austin, Texas

Samsung Austin Semiconductor, L.L.C. (Samsung), operator of Subzone 183B, submitted a notification of proposed production activity to the FTZ Board for its facility in Austin, Texas. The notification conforming to the requirements of the regulations of the FTZ Board (15 CFR 400.22) was received on December 14, 2015.

Samsung already has authority to produce semiconductor memory devices for export. The current request would add foreign-status hexamethyldisilazane to the scope of authority. Pursuant to 15 CFR 400.14(b), additional FTZ authority would be limited to the specific foreign-status material described in the submitted notification and subsequently authorized by the FTZ Board.

Export production under FTZ procedures could exempt Samsung from customs duty payments on the foreign-status hexamethyldisilazane (3.7% duty rate) and the materials and components in the existing scope of authority. Customs duties also could possibly be deferred or reduced on foreign-status production equipment.

Public comment is invited from interested parties. Submissions shall be addressed to the FTZ Board's Executive Secretary at the address below. The closing period for their receipt is February 8, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: December 22, 2015.
Andrew McGilvray,
Executive Secretary.

[FR Doc. 2015-32779 Filed 12-28-15; 8:45 am]

BILLING CODE 3510-DS-P